SECURITIES AND EXCHANGE COMMISSION

[Release No. IC-27221]

Notice of Applications for Deregistration Under Section 8(f) of the Investment Company Act of 1940

January 31, 2006.

The following is a notice of applications for deregistration under section 8(f) of the Investment Company Act of 1940 for the month of January, 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on February 27, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090. For Further Information Contact: Diane L. Titus at (202) 551-6810, SEC, Division of Investment Management, Office of Investment Company Regulation, 100 F Street, NE., Washington, DC 20549-0504.

WPG Large Cap Growth Fund [File No. 811-1447]; WPG Tudor Fund [File No. 811-1745]; Weiss Peck & Greer Funds Trust [File No. 811-4404]

Summary: Each applicant seeks an order declaring that it has ceased to be an investment company. On April 29, 2005, each applicant transferred its assets to a corresponding series of the RBB Fund, Inc., based on net asset value. Total expenses of $667,090 incurred in connection with the reorganizations were paid by Robeco USA, L.L.C., applicants' investment adviser.

Filing Date: The applications were filed on December 16, 2005.

Applicants' Address: 909 Third Ave., 31st Floor, New York, NY 10022.

Security Municipal Bond Fund [File No. 811-3225]

Summary: Applicant seeks an order declaring that it has ceased to be an investment company. On October 14, 2005, applicant made a liquidating distribution to its shareholders, based on net asset value. Expenses of $14,017 incurred in connection with the liquidation were paid by Security Management Company, LLC, applicant's investment adviser.

Filing Date: The application was filed on November 30, 2005.

Applicant's Address: One Security Benefit Place, Topeka, KS 66636-0001.

Aquila Fund [File No. 811-4083]

Summary: Applicant seeks an order declaring that it has ceased to be an investment company. On December 31, 2004, applicant made a liquidating distribution to its shareholders, based on net asset value. Expenses of $1,113 incurred in connection with the liquidation were paid by Aquila Investment Management LLC, applicant's investment adviser.

Filing Date: The application was filed on December 19, 2005.

Applicant's Address: 380 Madison Ave., New York, NY 10017.

Forward Funds, Inc. [File No. 811-8419]

Summary: Applicant seeks an order declaring that it has ceased to be an investment company. On June 30, 2005, each series of applicant transferred its assets to corresponding series of Forward Funds, based on net asset value. Expenses of $580,000 incurred in connection with the reorganization were paid by Forward Management, LLC, applicant's investment adviser.

Filing Date: The application was filed on December 12, 2005.

Applicant's Address: 433 California St., Suite 1100, San Francisco, CA 94104.

Oppenheimer Multi-Sector Income Trust [File No. 811-5473]

Summary: Applicant, a closed-end investment company, seeks an order declaring that it has ceased to be an investment company. On July 22, 2005, applicant transferred its assets to Oppenheimer Strategic Income Fund, based on net asset value. Expenses of $88,313 incurred in connection with the reorganization were paid by applicant.

Filing Date: The application was filed on December 13, 2005.

Applicant's Address: 6803 S. Tucson Way, Centennial, CO 80112.

Oppenheimer Capital Preservation Fund [File No. 811-8799]

Summary: Applicant seeks an order declaring that it has ceased to be an investment company. On February 10, 2005, applicant transferred its assets to Oppenheimer Cash Reserves, based on net asset value. Expenses of $55,563 incurred in connection with the reorganization were paid by applicant.

Filing Date: The application was filed on December 20, 2005.

Applicant's Address: 6803 S. Tucson Way, Centennial, CO 80112.

Quadrant Fund, Inc. [File No. 811-21704]

Summary: Applicant, a closed-end investment company, seeks an order declaring that it has ceased to be an investment company. On November 3, 2005, applicant made a liquidating distribution to its shareholders, based on net asset value. Expenses of $75,000 incurred in connection with the liquidation were paid by applicant and GMAC Institutional Advisors LLC, applicant's investment adviser. Applicant has retained approximately $123,000 to pay additional accrued expenses for which it has not yet been billed.

Filing Date: The application was filed on December 21, 2005.

Applicant's Address: 116 Welsh Rd., Horsham, PA 19044.

Columbia National Municipal Bond Fund, Inc. [File No. 811-7832]

Summary: Applicant seeks an order declaring that it has ceased to be an investment company. On June 17, 2005, applicant made liquidating distribution to its shareholders, based on net asset value. Applicant paid approximately $27,510 in expenses incurred in connection with the liquidation.

Filing Dates: The application was filed on October 21, 2005 and amended on January 11, 2006.

Applicant's Address: One Financial Center, Boston, MA 02110.

Tax-Free Income Trust [File No. 811-7397]

Summary: Applicant seeks an order declaring that it has ceased to be an investment company. By October 18, 2005, applicant's two shareholders had redeemed all their shares at net asset value. Expenses of $4,890 incurred in connection with the liquidation were paid by Ameriprise Financial, Inc., applicant's investment adviser.

Filing Dates: The application was filed on November 18, 2005, and amended on January 18, 2006.

Applicant's Address: 901 Marquette Avenue South, Suite 2810, Minneapolis, MN 55402-3268.

BQT Subsidiary Inc. [File No. 811-10451]

Summary: Applicant, a closed-end investment company, seeks an order declaring that it has ceased to be an investment company. On December 13, 2004, applicant made a liquidating distribution to its shareholders based on net asset value. Applicant incurred no expenses in connection with the liquidation.

Filing Date: The application was filed on December 30, 2005.

Applicant's Address: 100 Bellevue Parkway, Wilmington, DE 19809.

Sterling Capital Corporation [File No. 811-1537]

Summary: Applicant, a closed-end investment company, seeks an order declaring that it has ceased to be an investment company. On September 13, 2005, applicant transferred its assets to The Gabelli Equity Trust Inc. (“Gabelli”). Applicant's shareholders received .7914 newly issued shares of Gabelli common stock for each share of applicant, which represented a 1.4% premium to applicant's net asset value. Expenses of $121,000 incurred in connection with the reorganization were paid by applicant. Applicant has transferred $250,000 in cash to a liquidating trust to pay applicant's remaining liabilities. Any cash remaining after applicant's liabilities are paid will be distributed pro rata to applicant's former shareholders.

Filing Date: The application was filed on December 15, 2005.

Applicant's Address: 100 Wall St., 11th Floor, New York, NY 10005.

Lorent Investment Company [File No. 811-2935]

Summary: Applicant, a closed-end investment company, seeks an order declaring that it has ceased to be an investment company. Applicant has never made a public offering of its securities and does not propose to make a public offering. Applicant has fewer than one hundred beneficial owners and will continue to operate as private investment vehicle in reliance on section 3(c)(1) of the Act.

Filing Dates: The application was filed on July 1, 2005, and amended on August 16, 2005 and January 13, 2006.

Applicant's Address: 500 West Harbor Dr., Suite 1213, San Diego, CA 92101.

Pilgrim Government Securities Income Fund, Inc. [File No. 811-4031]

Summary: Applicant seeks an order declaring that it has ceased to be an investment company. On February 23, 2001, applicant transferred its assets to ING GNMA Income Fund, Inc. (formerly Pilgrim GNMA Income Fund, Inc.), based on net asset value. Expenses of $106,385 incurred in connection with the reorganization were paid by applicant, the acquiring fund, and applicant's investment adviser, ING Investments, LLC.

Filing Dates: The application was filed on October 19, 2001, and amended on September 9, 2005 and January 24, 2006.

Applicant's Address: 7337 East Doubletree Ranch Rd., Scottsdale, AZ 85258.

Pilgrim Silver Fund, Inc. [File No. 811-4111]

Summary: Applicant seeks an order declaring that it has ceased to be an investment company. On March 23, 2001, applicant transferred its assets to ING Precious Metals Fund, Inc. (formerly Pilgrim Precious Metals Fund, Inc.), based on net asset value. Expenses of $28,135 incurred in connection with the reorganization were paid by applicant, the acquiring fund, and applicant's investment adviser, ING Investments, LLC.

Filing Dates: The application was filed on October 19, 2001, and amended on September 9, 2005 and January 24, 2006.

Applicant's Address: 7337 East Doubletree Ranch Rd., Scottsdale, AZ 85258.

Pilgrim SmallCap Asia Growth Fund, Inc. [File No. 811-7287]

Summary: Applicant seeks an order declaring that it has ceased to be an investment company. On March 23, 2001, applicant transferred its assets to ING Asia-Pacific Equity Fund, a series of ING Advisory Funds, Inc. (formerly Pilgrim Advisory Funds, Inc.), based on net asset value. Expenses of $19,892 incurred in connection with the reorganization were paid by applicant, the acquiring fund, and applicant's investment adviser, ING Investments, LLC.

Filing Dates: The application was filed on October 19, 2001, and amended on September 9, 2005, and January 24, 2006.

Applicant's Address: 7337 East Doubletree Ranch Rd., Scottsdale, AZ 85258.

Pilgrim Global Technology Fund, Inc. [File No. 811-9649]

Summary: Applicant seeks an order declaring that it has ceased to be an investment company. On March 23, 2001, applicant transferred its assets to ING Global Information Technology Fund, a series of ING Funds Trust (formerly Pilgrim Funds Trust), based on net asset value. Expenses of $20,972 incurred in connection with the reorganization were paid by applicant, the acquiring fund, and applicant's investment adviser, ING Investments, LLC.

Filing Dates: The application was filed on October 19, 2001, and amended on September 9, 2005 and January 24, 2006.

Applicant's Address: 7337 East Doubletree Ranch Rd., Scottsdale, AZ 85258.

Pilgrim High Yield Fund III [File No. 811-5496]; Pilgrim Global Income Fund, Inc. [File No. 811-4675]; Pilgrim Global Corporate Leaders Fund, Inc. [File No. 811-5113]; Pilgrim Worldwide Emerging Markets Fund, Inc. [File No. 811-1838]

Summary: Each applicant seeks an order declaring that it has ceased to be an investment company. On March 31, 2000, February 23, 2001, February 23, 2001 and April 27, 2001, respectively, each applicant transferred its assets to a corresponding series of ING Mutual Funds (formerly Pilgrim Mutual Funds), based on net asset value. Expenses incurred in connection with the reorganizations were paid by applicants, the acquiring funds, and applicants' investment adviser, ING Investments, LLC.

Filing Dates: The applications were filed on October 19, 2001, and amended on September 9, 2005 and January 24, 2006.

Applicants' Address: 7337 East Doubletree Ranch Rd., Scottsdale, AZ 85258.

Acacia Variable Annuity Separate Account (formerly Acacia National Variable Annuity Separate Account II) [File No. 811-07627]

Summary: Applicant seeks an order declaring that it has ceased to be an investment company. Substantially all the assets of Applicant were transferred by Acacia National Life Insurance Company (Acacia National) to Ameritas Variable Life Insurance Company (Ameritas) under an assumption and reinsurance agreement transaction approved by the Securities and Exchange Commission in Release No. IC-25763, dated October 4, 2002. The Board of Directors of the parent of Acacia National approved the transfer of assets to Ameritas on December 3, 2001, and Applicant completed the transfer of its assets effective November 1, 2004. Shareholder approval of the transfer was not required. The fund surviving the transfer is Ameritas Variable Separate Account VA. Ameritas paid all the expenses incurred in connection with the transfer.

Filing Date: The application was filed on November 29, 2005, as amended.

Applicant's Address: 7315 Wisconsin Avenue, Bethesda, MD 20814.

Acacia Variable Life Separate Account (formerly Acacia National Variable Life Separate Account 1) [File No. 811-08998]

Summary: Applicant seeks an order declaring that it has ceased to be an investment company. Substantially all the assets of Applicant were transferred by Acacia National Life Insurance Company (Acacia National) to Ameritas Variable Life Insurance Company (Ameritas) under an assumption and reinsurance agreement transaction approved by the Securities and Exchange Commission in Release No. IC-25763, dated October 4, 2002. The Board of Directors of the parent of Acacia National approved the transfer of assets to Ameritas on December 3, 2001, and Applicant completed the transfer of its assets effective November 1, 2004. Shareholder approval of the transfer was not required. The fund surviving the transfer is Ameritas Variable Separate Account VL. Ameritas paid the expenses incurred in connection with the transfer.

Filing Date: The application was filed on November 29, 2005, as amended.

Applicant's Address: 7315 Wisconsin Avenue, Bethesda, MD 20814.

For the Commission, by the Division of Investment Management, pursuant to delegated authority.
Nancy M. Morris,
Secretary.

[FR Doc. E6-1575 Filed 2-3-06; 8:45 am]

BILLING CODE 8010-01-P